DEPARTMENT OF VETERANS AFFAIRS

Rehabilitation Research and Development Service Scientific Merit Review Board; Notice of Meetings

The Department of Veterans Affairs (VA) gives notice under the Federal Advisory Committee Act that the subcommittees of the Rehabilitation Research and Development Service Scientific Merit Review Board will meet from 8:00 a.m. to 5:00 p.m. on the dates indicated below:

Subcommittee | Date(s) | Location
Brain Health and Injury | August 7-8, 2018 | Crowne Plaza, Washington National Airport Hotel.
Behavioral Health & Social Reintegration | August 7, 2018 | Crowne Plaza, Washington National Airport Hotel.
Rehabilitation Engineering & Prosthetics/Orthotics | August 7, 2018 | Crowne Plaza, Washington National Airport Hotel.
Spinal Cord Injury/Disorders & Neuropathic Pain | August 8, 2018 | Crowne Plaza, Washington National Airport Hotel.
Musculoskeletal Health & Function | August 8-9, 2018 | Crowne Plaza, Washington National Airport Hotel.
Career Development Program | August 8-9, 2018 | Crowne Plaza, Washington National Airport Hotel.
Sensory Systems & Disorders Communication | August 9, 2018 | Crowne Plaza, Washington National Airport Hotel.
Regenerative Rehabilitation | August 10, 2018 | Crowne Plaza, Washington National Airport Hotel.
Chronic Medical Conditions and Aging | August 10, 2018 | Crowne Plaza, Washington National Airport Hotel.
Research Career Scientist | August 10, 2018 | Crowne Plaza, Washington National Airport Hotel.

The address of the meetings site is: Crowne Plaza Washington National Airport Hotel, 1480 Crystal Drive, Arlington, VA 22202.

The purpose of the Board is to review rehabilitation research and development applications and advise the Director, Rehabilitation Research and Development Service, and the Chief Research and Development Officer on the scientific and technical merit, the mission relevance, and the protection of human and animal subjects.

The subcommittee meetings will be open to the public for approximately one-half hour at the start of each meeting to cover administrative matters and to discuss the general status of the program. Members of the public who wish to attend the open portion of the teleconference sessions may dial 1 (800) 767-1750, participant code 35847. The remaining portion of each subcommittee meeting will be closed to the public for the discussion, examination, reference to, and oral review of the research applications and critiques. During the closed portion of each subcommittee meeting, discussion and recommendations will include qualifications of the personnel conducting the studies (the disclosure of which would constitute a clearly unwarranted invasion of personal privacy), as well as research information (the premature disclosure of which would likely compromise significantly the implementation of proposed agency action regarding such research projects). As provided by subsection 10(d) of Public Law 92-463, as amended by Public Law 94-409, closing the meeting is in accordance with 5 U.S.C. 552b(c)(6) and (9)(B).

No oral or written comments will be accepted from the public for either portion of the meetings. Those who plan to attend (by phone or in person) the open portion of a subcommittee meeting must contact Kristy Benton-Grover, Designated Federal Officer, Rehabilitation Research and Development Service, at Department of Veterans Affairs (10P9R), 810 Vermont Avenue NW, Washington, DC 20420, or email Kristy.Benton-Grover@va.gov, at least five days before the meeting. For further information, please call Mrs. Benton-Grover at (202) 443-5728.

Dated: June 6, 2018.
LaTonya L. Small,
Federal Advisory Committee Management Officer.

[FR Doc. 2018-12546 Filed 6-11-18; 8:45 am]

BILLING CODE 8320-01-P